DEPARTMENT OF AGRICULTURE

Forest Service

Rocky Mountain Region, Grand Mesa, Uncompahgre and Gunnison National Forest, Mesa County, CO; Supplemental Environmental Impact Statement for Sheep Flats Diversity Unit Timber Sales

AGENCY: Forest Service, USDA.

ACTION: Notice of intent to supplement an environmental impact statement.

SUMMARY: The Forest Service will prepare a supplemental environmental impact statement for the Sheep Flats Diversity Unit Timber Sale to present additional information concerning Management Indicator Species (MIS), and Threatened, Endangered and Sensitive Species (TES).

DATES: Comments concerning the scope of the analysis must be received by 45 days after publication of the draft supplemental environmental impact statement. The draft supplemental environmental impact statement is expected August 2005 and the final supplemental environmental impact statement is expected October 2005.

ADDRESSES: Send written comments to Connie Clementson, District Ranger, Grand Valley Ranger District, 2777 Crossroads Blvd, Unit 1, Grand Junction, Colorado 81506.

FOR FURTHER INFORMATION CONTACT: Carol McKenzie, Team Leader at cmckenzie@fed.us or (208) 634-0761; or Ken Anderson, Timber Group Leader, Forest Supervisor's Office, 2250 Highway 50, Delta, CO 81416.

SUPPLEMENTARY INFORMATION: The Forest Service is proposing to prepare a supplement to the final environmental impact statement for the Sheep Flats Diversity Unit Timber Sales. In accordance with FSH 1909.15, the 1998 final environmental impact statements and 2001 final supplemental environmental impact statement has been reviewed. New information have been discovered in the form of court decisions and regulations at 26 CFR 219 concerning the analysis and use of Management Indicator Species (MIS). In addition, species lists for Threatened, Endangered and Sensitive Species have changed since the final environmental impact statement and final supplemental environmental impact statement were issued. The forest Service will supplement the final environmental impact statement by analyzing and presenting additional information concerning wildlife resources. The scope and analysis of the proposed supplement to the final environmental impact statement will be limited to the Management Indicator Species Assessment, Amended Biological Assessment and Amended Biological Evaluation.

The original Notice of Intent for this project was published in the Federal Register Vol. 57, No. 31, February 14, 1992. A revised Notice of Intent was published in the Federal Register Vol. 61, No. 177, September 11, 1996. In June 1998, a Record of Decision was issued. This decision was appealed on August 17, 1998. On October 1, 1998, the Appeal Deciding Officer recommended that the June 1998 decision be reversed because of the deficiencies in the water quality and soils analyses. A Notice of Intent to supplement the final environmental impact statement with additional information regarding water quality and soils was published in the Federal Register Vol. 63, No. 222, November 18, 1998. A new Record of Decision and final supplemental environmental impact statement were approved on October 1, 2001 by then Forest Supervisor Robert L. Storch. The approved decision was to implement Alternative 4 and associated mitigation measures as detailed on pages 2 through 8 of the Record of Decision. This decision was appealed on November 19, 2001. The Appeal Deciding Officer upheld the decision on December 20, 2001.

Purpose and Need for Action

The draft supplemental environmental impact statement will not change the purpose and need for the Sheep Flats Diversity Unit Timber Sales as described on pages 1-1 through 1-3 of the final environmental impact statement. The scope of the draft supplemental environmental impact statement is only to provide additional analysis regarding wildlife resources.

Proposed Action

The draft supplemental environmental impact statement will not change the proposed action for the Sheep Flats Diversity Unit Timber Sales as described on pages 1-1 through 1-3 of the final environmental impact statement. The scope of the draft supplemental environmental impact statement is only to provide additional analysis regarding wildlife resources.

Responsible Official

The Responsible Official is Connie Clementson, District Ranger, Grand Valley Ranger District, 2777 Crossroads Blvd. Unit 1, Grand Junction, CO 81506.

Nature of Decision To Be Made

The Responsible Official will review the supplemental information and determine if the 2001 Record of Decision should be modified or if the original decision is to remain in effect and unchanged.

Scoping Process

Extensive public involvement has occurred on this project over the last 13 years in the form of news releases, field tours and public meetings. No additional scoping is planned for this supplement.

Comment Requested

A legal notice will be published in the newspaper of record and a Notice of Availability will be published in the Federal Register to inform the public that supplemental information is available for review and comment. The draft supplemental environmental impact statement will be distributed to all parties that received the 2001 final supplemental environmental impact statement and record of decision and to those parties that filed an appeal of the 2001 decision.

Early Notice of Importance of Public Participation in Subsequent Environmental Review

A draft supplemental environmental impact statement will be prepared for comment. The comment period on the draft supplemental environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: August 5, 2005.
Connie Clementson,
District Ranger.

[FR Doc. 05-15886 Filed 8-10-05; 8:45 am]

BILLING CODE 3410-11-M